DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders with July anniversary dates. In accordance with Commerce's regulations, we are initiating those administrative reviews.

DATES: Applicable September 6, 2022.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with July anniversary dates.

All deadlines for the submission of various types of information, certifications, or comments or actions by Commerce discussed below refer to the number of calendar days from the applicable starting time.

Notice of No Sales

With respect to antidumping administrative reviews, if a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

Exporters and producers must file a timely Separate Rate Application or Certification if they want to be considered for respondent selection. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than July 31, 2023.

| Period to be reviewed
AD Proceedings
BELGIUM: Citric Acid and Certain Citrate Salts, A-423-813 | 7/1/21-6/30/22
S.A. Citrique Belge N.V
Citribel nv
COLOMBIA: Citric Acid and Certain Citrate Salts, A-301-803 | 7/1/21-6/30/22
Sucroal S.A
INDIA: Polyethylene Terephthalate (PET) Film, A-533-824 | 7/1/21-6/30/22
Ester Industries Ltd
Garware Polyester Ltd
Jindal Poly Films Ltd
MTZ Polyesters Ltd
Polyplex Corporation Ltd
SRF Limited
Uflex Ltd
Vacmet India Ltd
ITALY: Certain Pasta, A-475-818 | 7/1/21-6/30/22
Aldino S.r.l
La Molisana S.p.A
Pasta Castiglioni
Pastificio Chiavenna S.r.l
Pastificio Di Martino Gaetano e Flli S.p.A
Pastificio Favellato srl
Pastificio Gentile S.r.l
Pastificio Liguori S.p.A
Pastificio Mediterranea S.R.L
Pastificio Mennucci S.p.A
Pastificio Rigo S.P.A
Pastificio Tamma S.r.l
Rummo S.p.A
Sgambaro SpA
Valdigrano di Flavio Pagani S.r.L
ITALY: Prestressed Concrete Steel Wire Strand ⁵, A-475-843 | 11/19/20-5/31/22
JAPAN: Stainless Steel Sheet and Strip in Coils, A-588-845 | 7/1/21-6/30/22
Daido Kogyo Co., Ltd
Hanwa Co., Ltd
Honda Trading Corporation
JFE Shoji Trading Corp
Kawasaki Steel Corporation
Mitsui & Co., Ltd
Nippon Metal Industries
Nippon Steel Corporation
Nippon Steel Trading Co., Ltd
Nippon Yakin Kogyo
Nisshin Steel Co., Ltd
Okaya & Co., Ltd
Sakamoto Industries Co., Ltd
Shinsho Corporation
Sumitomo Corporation
Tomiyasu & Co., Ltd
Toyo Kihan Co., Ltd
MALAYSIA: Certain Steel Nails, A-557-816 | 7/1/21-6/30/22
Alsons Manufacturing India, LLP
Astrotech Steels Pvt. Ltd
Atlantic Marine Group Ltd
Chia Pao Metal Co., Ltd
Chin Lai Hardware Sdn., Bhd
Chuan Heng Hardware Paints and Building Materials Sdn., Bhd
Come Best (Thailand) Co., Ltd
Gbo Fastening Systems AB
Geekay Wires Limited
Impress Steel Wire Industries Sdn., Bhd
Inmax Industries Sdn., Bhd
Inmax Sdn., Bhd
Kerry-Apex (Thailand) Co., Ltd
Kimmu Trading Sdn., Bhd
Madura Fasteners Sdn., Bhd
Modern Factory for Steel Industries Co., Ltd
Oman Fasteners LLC
Region System Sdn., Bhd
Region International Co., Ltd
RM Wire Industries Sdn., Bhd
Soon Shing Building Materials Sdn., Bhd
Storeit Services LLP
Sunmat Industries Sdn., Bhd
Tag Fasteners Sdn., Bhd
Tag Staples Sdn., Bhd
Tampin Sin Yong Wai Industry Sdn., Bhd
Top Remac Industries
Trinity Steel Private Limited
UD Industries Sdn., Bhd
Vien Group Sdn., Bhd
Watasan Industries Sdn., Bhd
WWL India Private Ltd
OMAN: Certain Steel Nails, A-523-808 | 7/1/21-6/30/22
Al Ansari Teqmark, LLC
Al Kiyumi Global LLC
Al Sarah Building Materials LLC
Astrotech Steels Private Ltd
Buraimi Iron & Steel, LLC
CL Synergy (Pvt) Ltd
Diamond Foil Trading LLC
Geekay Wires Ltd
Gulf Nails Manufacturing, LLC
Gulf Steel Manufacturers, LLC
Modern Factory for Metal Products, LLC
Muscat Industrial Company, LLC
Muscat Nails Factory Golden Asset Trade, LLC
Oman Fasteners LLC
Omega Global Uluslararasi Tasimacilik Lojistik Ticaret Ltd. Sti
Trinity Steel Pvt. Ltd. WWL Indian Private Ltd
WWL Indian Private Ltd
REPUBLIC OF KOREA: Certain Steel Nails, A-580-874 | 7/1/21-6/30/22
Agl Co., Ltd
Americana Express (Shandong) Co. Ltd
Ansing Fasteners Co. Ltd
Astrotech Steels Private Limited
Beijing Catic Industry Limited
Beijing Jinheung Co., Ltd
Big Mind Group Co., Ltd
Changzhou Kya Trading Co., Ltd
China Staple Enterprise Tianjin Co. Ltd
D&F Material Products Ltd
Daejin Steel Company
De Well Group Korea Co., Ltd
Dezhou Hualude Hardware Products Co. Ltd
DLF Industry Co., Limited
Doublemoon Hardware Company Ltd
DT China (Shanghai) Ltd
YEDuo-Fast Korea Co. Ltd
Ejen Brothers Limited
England Rich Group (China) Ltd
Ever Leading International Inc
Fastgrow International Co., Inc
Geekay Wires Limited
Glovis America, Inc
GWP Industries (Tianjin) Co., Ltd
Haas Automation Inc
Han Express Co. Ltd
Handuk Industrial Co., Ltd
Hanmi Staple Co., Ltd
Hebei Minmetals Co., Ltd
Hebei Longshengyuan Trade Co Ltd
Hebei Cangzhou New Century Foreign Trade Co., Ltd
Hebei Shinyee Trade Co. Ltd
Hengtuo Metal Products Company Limited
Home Value Co., Ltd
Hongyi (Hk) Hardware Products Co., Limited
Hongyi (Hk) Industrial Co., Limited
Huanghua RC Business Co., Ltd
Huanghua Yingjin Hardware Products Co., Ltd
Inmax Industries Sdn. Bhd
JCD Group Co., Limited
Je-il Wire Production Co., Ltd
Jinheung Steel Corporation
Jining Jufu International Trade Co
Jinsco International Corporation
Joo Sung Sea & Air Co., Ltd
Jushiqiangsen (Tianjin) International Trade Co., Ltd
Kabool Fasteners Co. Ltd
KB Steel
Kerry-Apex (Thailand) Co., Ltd
Koram Inc
Korea Wire Co., Ltd
KPF Co., Ltd
Kuehne & Nagel Ltd
Linyi Double-Moon Hardware Products Co., Ltd
Linyi Flyingarrow Imp. & Exp. Co., Ltd
Linyi Jianchengde Metal Hardware Co
Linyi Yitong Chain Co., Ltd
Manho Rope and Wire Ltd
Max Co., Ltd
Mingguang Ruifeng Hardware Products Co., Ltd
Nailtech Co., Ltd
Nanjing Senqiao Trading Co., Ltd
Needslink, Inc
Ocean King International Industries Limited
Paslode Fasteners (Shanghai) Co., Ltd
Peace Korea Co., Ltd
Qingdao Ant Hardware Manufacturing Co., Ltd
Qingdao Best World Industry-Trading Co., Ltd
Qingdao Cheshire Trading Co., Ltd
Qingdao Hongyuan Nail Industry Co., Ltd
Qingdao Jcd Machinery Co., Ltd
Qingdao Jiawei Industry Co., Limited
Qingdao Jisco Co., Ltd
Qingdao Master Metal Products Co., Ltd
Qingdao Meijialucky Industry and Co
Qingdao Mst Industry And Commerce Co., Ltd
Qingdao Ruitai Trade Co., Ltd
Qingdao Shantron Int'l Trade Co., Ltd
Qingdao Shenghengtong Metal Products Co., Ltd
Qingdao Sunrise Metal Products Co., Ltd
Qingdao Tian Heng Xiang Metal Products Co., Ltd
Qingdao Top Metal Industrial Co., Ltd
Rewon Systems, Inc
Rise Time Industrial Ltd
Shandong Dominant Source Group Co., Ltd
Shandong Guomei Industry Co., Ltd
Shanghai Curvet Hardware Products Co., Ltd
Shanghai Goldenbridge International Co., Ltd
Shanghai Pinnacle International Trading Co., Ltd
Shanghai Zoonlion Industrial Co., Ltd
Shanxi Pioneer Hardware Industrial Co., Ltd
Shanxi Sanhesheng Trade Co., Ltd
Shaoxing Bohui Import & Export Co., Ltd
Shijiazhuang Yajiada Metal Products Co., Ltd
Shijiazhuang Tops Hardware Manufacturing Co., Ltd
Shin Jung TMS Corporation Ltd
SSS Hardware International Trading Co., Ltd
Storeit Services LLP
Test Rite International Co., Ltd
Tangshan Jason Metal Materials Co., Ltd
The Inno Steel Industry Company
Tianjin Bluekin Industries Limited
Tianjin Coways Metal Products Co., Ltd
Tianjin Hweschun Fasteners Manufacturing Co. Ltd
Tianjin Jinchi Metal Products Co., Ltd
Tianjin Jinghai County Hongli Industry and Business Co., Ltd
Tianjin Jinzhuang New Material Sci Co., Ltd
Tianjin Lianda Group Co., Ltd
Tianjin Zhonglian Metals Ware Co., Ltd
Tianjin Zhonglian Times Technology Co., Ltd
Un Global Company Limited
Unicorn (Tianjin) Fasteners Co., Ltd
United Company For Metal Products
W&K Corporation Limited
Weifang Wenhe Pneumatic Tools Co., Ltd
Wulian Zhanpengmetals Co., Ltd
WWL India Private Ltd
Xian Metals And Minerals Import And Export Co., Ltd
Youngwoo Fasteners Co., Ltd
Zhangjiagang Lianfeng Metals Products Co., Ltd
Zhaoqing Harvest Nails Co., Ltd
REPUBLIC OF KOREA: Corrosion-Resistant Steel Products, A-580-878 | 7/1/21-6/30/22
Dongkuk Steel Mill Co., Ltd
Hyundai Steel Company
KG Dongbu Steel Co., Ltd
POSCO
POSCO International Corporation
POSCO STEELEON Co., Ltd
SeAH Coated Metal
SeAH Steel Corporation
REPUBLIC OF KOREA: Passenger Vehicle and Light Truck Tires, A-580-908 | 1/6/21-6/30/22
Hankook Tire & Technology Co., Ltd
Hankook Tire America Corp
Kumho Tire Co., Inc
Nexen Tire Corporation
REPUBLIC OF KOREA: Stainless Steel Sheet and Strip in Coils, A-580-834 | 7/1/21-6/30/22
DK Corporation
Dongbu Steel Co., Ltd
Dongkuk Steel Mill Co., Ltd
Hyundai Steel Co ⁶
Inchon Iron & Steel Co., Ltd ⁷
KG Dongbusteel Co., Ltd
Pohang Iron & Steel Co., Ltd. (POSCO) ⁸
POSCO International Corp
Taihan Electric Wire Co., Ltd
Topco Global Ltd
SOCIALIST REPUBLIC OF VIETNAM: Certain Steel Nails, A-552-818 | 7/1/21-6/30/22
Anhui Sunwell Products Co. Ltd
Atlantic Manufacture Inc
Come Best (Thailand) Co., Ltd
Cuong Dinh Co. Ltd
Delmar International (Vietnam) Ltd
Detchun Vietnam Joint Stock Company
Dinh Nguyen Service Trading Production Co. Ltd
Dinh Thanh Phat Trade One Member Co. Ltd
Easy Link Industrial Co. Ltd
Geekay Wires Limited
Hiep Dat Dong Nai Corporation
Inmax Industries Sdn., Bhd
Jinhai Hardware Co., Ltd
Kim Hoang Industrial Nails Production and Trading Service Co. Ltd
KPF Vietnam Co., Ltd
KPF Vina Co., Ltd
Pudong Prime International Co., Ltd
Storeit Services LLP
T.H.I. Group (Shanghai) Limited
The Inno Steel Co., Ltd
Topy Fasteners Vietnam Co., Ltd
Vina Hardwares J.S.C
TAIWAN: Certain Steel Nails, A-583-854 | 7/1/21-6/30/22
A-Jax Enterprises Limited
A-Jax International Company Limited
A-Stainless International Company Limited
Advanced Global Sourcing Limited
Aimreach Enterprises Company Limited
Alisios International Corporation
Allwin Architectural Hardware Inc
A.N. Cooke Manufacturing Co., Pty., Limited
Asia Engineered Components
Asia Link Industrial Corporation
Asia Smarten Way Corp. (Taiwan)
Astrotech Steels Private Ltd
Autolink International Company Limited
BCR Inc
Bestwell International Corporation
Boss Precision Works Co., Ltd
Budstech CI Limited
Bulls Technology Company Limited
Canatex Industrial Company Limited
Cata Company Limited
Cenluxmetals Company Limited
Chang Bin Industrial Co., Ltd
Channg Chin Industry Corporation
Charng Yu Industrial Company
Chen Nan Iron Wire Co., Ltd
Chen Yu-Lan
Chia Da Fastener Company Limited
Chiang Shin Fasteners Industries Ltd
Chin Tai Sing Precision Manufactory Co., Ltd
Chun Yu Works & Company Limited
Concord International Engineering & Trading Co., Ltd
Create Trading Co., Ltd
Cross International Co., Ltd
Da Wing Industry Company Limited
Dar Yu Enterprise Co., Ltd
Eagre International Trade Co., Ltd
Ever-Top Hardware Corporation
Excel Components Manufacturing Co., Ltd
Faithful Engineering Products Co., Ltd
Fastguard Fastening Systems Inc
Fastnet Corporation
Fujian Xinhong Mech. & Elec. Co., Ltd
Funtec International Co., Ltd
Fuzhou Royal Floor Co., Ltd
FWU Kuang Enterprise Co., Ltd
GoFast Company Limited
H-H Fasteners Company
H-Locker Components Inc
Hau Kawang Enterprise Co., Ltd
Hecny Group
Hi-Sharp Industrial Corp., Ltd
Hom Wei Enterprise Corporation
HWA Hsing Screw Industry Co., Ltd
Hwaguo Industrial Fasteners Co., Ltd
Hy-Mart Fastener Co., Ltd
Hyup Sung Indonesia
In Precision Link Co., Ltd
Intai Technology Corporation
JCH Hardware Company Inc
Jet Crown International Co., Ltd
Ji Li Deng Fasteners Co., Ltd
Jinhai Hardware Co., Ltd
Jinn Her Enterprise Limited
Jockey Ben Metal Enterprise Co., Ltd
Kan Good Enterprise Co., Ltd
Katsuhana Fasteners Corporation
Kay Guay Enterprises Co., Ltd
Key Use Industrial Works Co., Ltd
KOT Components Co., Ltd
K. Ticho Industries Co., Ltd
K Win Fasteners Inc
Kuan Hsin Screw Industry Co., Ltd
Liang Ying Fasteners Industry Co., Ltd
Long Chan Enterprise Co., Ltd
Lu Chu Shin Yee Works Co., Ltd
Mechanical Hardwares Co
Midas Union Co., Ltd
Min Hwei Enterprise Co., Ltd
Ming Cheng Precision Co., Ltd
Ming Zhan Industrial Co., Ltd
ML Global Ltd
Newfast Co., Ltd
Noah Enterprise Co., Ltd
Nytaps Taiwan Corporation
Pao Shen Enterprises Co., Ltd
Par Excellence Industrial Co., Ltd
Pengteh Industrial Co., Ltd
Pneumax Corp
Printech T Electronics Corporation
Pro-an International Co., Ltd
Pronto Great China Corp
Professional Fasteners Development Co., Ltd
P.S.M. Fasteners (Asia) Limited
Qi Ding Enterprise Co., Ltd
Region System Sdn. Bhd
Region Industries Co., Ltd
Region International Co., Ltd
Right Source Co., Ltd
Rodex Fasteners Corp
Rong Chang Metal Co., Ltd
San Shing Fastech Corporation
SBSCQ Taiwan Limited
Shang Jeng Nail Co., Ltd
Shanxi Pioneer Hardware Industrial Co., Ltd
Somax Enterprise Co., Ltd
Spec Products Corporation
Star World Product and Trading Co., Ltd
Sumeeko Industries Co., Ltd
Sunshine Spring Co., Ltd
Suntec Industries Co., Ltd
Supreme Fasteners Corp
Szu I Industries Co., Ltd
Tag Fasteners Sdn. Bhd
Taifas Corporation
Taiwan Geer-Tai Works Co., Ltd
Taiwan Quality Fastener Co., Ltd
Team Builder Enterprise Limited
Techno Associates Taiwan Co., Ltd
Techup Development Co., Ltd
TG Co., Ltd
Tianjin Jinchi Metal Products Co., Ltd
Topps Wang International Ltd
Ume-Pride International Inc
Unistrong Industrial Co., Ltd
United Nail Products Co., Ltd
Vanguard International Co., Ltd
Wa Tai Industrial Co., Ltd
Win Fastener Corporation
Wiresmith Industrial Co., Ltd
World Kun Co., Ltd
WTA International Co., Ltd
Wumax Industry Co., Ltd
Wyser International Corporation
Yeun Chang Hardware Tool Company Limited
Yng Tran Enterprise Company Limited
Yoh Chang Enterprise Company Limited
Your Standing International Inc
Yow Chern Company
Yumark Enterprises Corporation
Yu Tai World Co., Ltd
Zenith Good Enterprise Corporation
TAIWAN: Corrosion-Resistant Steel Products, A-583-856 | 7/1/21-6/30/22
China Steel Corporation
Chung Hung Steel Corporation
Great Fortune Steel Co., Ltd
Great Grandeul Steel Co., Ltd
Great Grandeul Steel Company Limited (Somoa) (aka Great Grandeul Steel Company Limited Somoa)
Great Grandeul Steel Corporation
Prosperity Tieh Enterprise Co., Ltd
Sheng Yu Steel Co., Ltd
Synn Industrial Co., Ltd
Xxentria Technology Materials Company Ltd
Yieh Phui Enterprise Co., Ltd
TAIWAN: Passenger Vehicle and Light Truck Tires, A-583-869 | 1/6/21-6/30/22
Cheng Shin Rubber Ind. Col Ltd
Nankang Rubber Tire Corp., Ltd
TAIWAN: Polyethylene Terephthalate (PET) Film, A-583-837 | 7/1/21-6/30/22
Nan Ya Plastics Corporation
Shinkong Materials Technology Corporation
TAIWAN: Stainless Steel Sheet and Strip in Coils, A-583-831 | 7/1/21-6/30/22
Broad International Resources Ltd
Chain Chon Industrial Co., Ltd
Cheng Feng Plastic Co., Ltd
Chia Far Industrial Factory Co., Ltd
Chien Shing Stainless Co
China Steel Corporation
Chung Hung Steel Corp
Chyang Dah Stainless Co., Ltd
Dah Shi Metal Industrial Co., Ltd
Da-Tsai Stainless Steel Co., Ltd
DB Schenker (HK) Ltd. Taiwan Branch
DHV Technical Information Co., Ltd
Froch Enterprises Co., Ltd
Gang Jou Enterprise Co., Ltd
Genn Hann Stainless Steel Enterprise Co., Ltd
Goang Jau Shing Enterprise Co., Ltd
Goldioceans International Co., Ltd
Gotosteel Ltd
Grace Alloy Corp
Hung Shuh Enterprises Co., Ltd
Hwang Dah Steel Inc
Jie Jin Stainless Steel Industry Co., Ltd
JJSE Co., Ltd
KNS Enterprise Co., Ltd
Lancer Ent. Co., Ltd
Lien Chy Laminated Metal Co., Ltd
Lien Kuo Metal Industries Co., Ltd
Lih Chan Steel Co., Ltd
Lung An Stainless Steel Ind. Co., Ltd
Master United Corp
Maytun International Corp
NKS Steel Ind. Ltd
PFP Taiwan Co., Ltd
Po Chwen Metal
Prime Rocks Co., Ltd
S More Steel Materials Co., Ltd
Shih Yuan Stainless Steel Enterprise Co., Ltd
Silineal Enterprises Co., Ltd
Stanch Stainless Steel Co., Ltd
Ta Chen Stainless Pipe Co., Ltd
Tah Lee Special Steel Co., Ltd
Taiwan Nippon Steel Stainless
Tang Eng Iron Works
Teng Yao Hardware Industrial Co., Ltd
Tibest International Inc
Ton Yi Industrial Corp
Tsai See Enterprise Co., Ltd
Tung Mung Development Co., Ltd.⁹
Vasteel Enterprises Co., Ltd
Vulcan Industrial Corporation
Wuu Jing Enterprise Co., Ltd
Yc Inox Co., Ltd
Yes Stainless International Co., Ltd
Yieh Mau Corp
Yieh Phui Enterprise Co., Ltd
Yieh Trading Corp
Yieh United Steel Corporation
Yu Ting Industries Co., Ltd
Yue Seng Industrial Co., Ltd
Yuen Chang Stainless Steel Co., Ltd
Yung Fa Steel & Iron Industry Co., Ltd
THAILAND: Citric Acid and Certain Citrate Salts, A-549-833 | 7/1/21-6/30/22
COFCO Biochemical (Thailand) Co., Ltd
Sunshine Biotech International Co., Ltd
Xitrical Group Co., Ltd
THAILAND: Passenger Vehicle and Light Truck Tires, A-549-842 | 1/6/21-6/30/22
Deestone Corporation Ltd
General Rubber (Thailand) Co., Ltd
LLIT (Thailand) Co., Ltd
Maxxis International (Thailand) Co., Ltd
Otani Radial Company Limited
Prinx Chengshan Tire (Thailand) Co., Ltd
Sanpo (Thailand) Co., Ltd
Sentury Tire (Thailand) Co., Ltd
Sumitomo Rubber (Thailand) Co., Ltd
Zhongce Rubber (Thailand) Co., Ltd
THE PEOPLE'S REPUBLIC OF CHINA: Collated Steel Staples, A-570-112 | 7/1/21-6/30/22
China Staple (Tianjin) Co., Ltd
Shanghai Yueda Nails Co., Ltd
Shijiazhuang Shuangming Trade Co., Ltd
Tianjin Hweschun Fasteners Manufacturing Co., Ltd
Tianjin Jinyifeng Hardware Co., Ltd
Zhejiang Best Nail Industrial Co., Ltd./Shaoxing Bohui Import & Export Co., Ltd
Unicorn Fasteners Manufacturing Co., Ltd
THE PEOPLE'S REPUBLIC OF CHINA: Tapered Roller Bearings,¹⁰ A-570-601 | 6/1/2021-5/31/2022
THE PEOPLE'S REPUBLIC OF CHINA: Certain Walk-Behind Lawn Mowers and Parts Thereof, A-570-129 | 12/30/20-6/30/22
Ningbo Daye Garden Machinery Co., Ltd
Ningbo Lingyue Intelligent Equipment Co., Ltd
Zhejiang Amerisun Technology Co., Ltd
Zhejiang Dobest Power Tools Co., Ltd
THE PEOPLE'S REPUBLIC OF CHINA: Xanthan Gum, A-570-985 | 7/1/21-6/30/22
A.H.A. International Co., Ltd
Beijing Rodia Auto Sport Ltd
CP Kelco (Shandong) Biological Company Limited
Deosen Biochemical (Ordos) Ltd
Deosen Biochemical Ltd
Deosen USA Inc
East Chemsources Ltd
Foodchem Biotech Co., Ltd
Greenhealth International Co., Ltd. (Hong Kong)
Guangzhou Zio Chemical Co., Ltd
Hangzhou Yuanjia Chemical Co., Ltd
Hebei Xinhe Biochemical Co., Ltd
H&H International Forwarders Co
Inner Mongolia Fufeng Biotechnologies Co., Ltd
Inner Mongolia Jianlong Biochemical Co., Ltd
Jianlong Biotechnology Co., Ltd
Langfang Meihua Biotechnology Co., Ltd
Meihua Group International Trading (Hong Kong) Limited
Xinjiang Meihua Amino Acid Co., Ltd
Nanotech Solutions SDN BHD
Neimenggu Fufeng Biotechnologies Co., Ltd
Powertrans Freight Systems, Inc
Qingdao Yalai Chemical Co., Ltd
Shandong Fufeng Fermentation Co., Ltd
Shandong Hiking International Commerce Group Co., Ltd
Shanghai Smart Chemicals Co., Ltd
Shanghai Tianjia Biochemical Co., Ltd
Shanxi Reliance Chemicals Co., Ltd
The TNN Development Ltd
The TNN Development USA Inc
Unionchem Corp. Ltd
Wanping Bio Chem Co., Ltd
Weifang Hongyuan Chemical Co., Ltd
Xinjiang Meihua Amino Acid Co., Ltd
Xinjiang Fufeng Biotechnologies Co., Ltd
Z Sports
TURKEY: Common Alloy Aluminum Sheet,¹¹ A-489-839 | 10/15/20-3/31/22
ASAS Aluminyum Sanayi ve Ticaret A.S
Assan Aluminyum Sanayi ve Ticaret A.S
Kibar Dis Ticaret A.S
TURKEY: Steel Concrete Reinforcing Bar, A-489-829 | 7/1/21-6/30/22
Colakoglu Metalurji A.S./Colakoglu Dis Ticaret A.S. (COTAS)
Diler Dis Ticaret A.S
Ekinciler Demir ve Celik Sanayi A.S
Habas Sinai ve Tibbi Gazlar Istihsal Endustrisi A.S
Icdas Celik Enerji Tersane ve Ulasim Sanayi A.S
Kaptan Demir Celik Endustrisi ve Ticaret A.S.¹²
Sami Soybas Demir Sanayi ve Ticaret A.S
UKRAINE: Oil Country Tubular Goods, A-823-815 | 7/1/21- 6/30/22
Interpipe Europe S.A., Interpipe Ukraine LLC
PJSC Interpipe Niznedneprovskv Tube Rolling Plant (aka Interpipe NTRP), LLC Interpipe Niko Tube
CVD Proceedings
INDIA: Polyethylene Terephthalate (Pet) Film, C-533-825 | 1/1/21-12/31/21
Ester Industries, Ltd
Garware Polyester Ltd
Jindal Poly Films Ltd. (India) (aka Jindal Poly Films Ltd.).
MTZ Polyesters Ltd
Polyplex Corporation Ltd
SRF Limited of India (aka SRF Limited)
Uflex Ltd
Vacmet India Limited
ITALY: Certain Pasta, C-475-819 | 1/1/21-12/31/21
Pastificio Favellato srl
Pastificio Gentile S.r.l
Pastificio Mediterranea S.R.L
Sgambaro SpA
REPUBLIC OF KOREA: Corrosion-Resistant Steel Products, C-580-879 | 1/1/21-12/31/21
Hyundai Steel
Hyundai Steel Co., Ltd
KG Dongbu Steel Co., Ltd
POSCO
POSCO Coated & Color Steel Co., Ltd
POSCO International
POSCO Steeleon Co., Ltd
SeAH Coated Metal
SeAH Steel Corporation
SOCIALIST OF REPUBLIC OF VIETNAM: Certain Steel Nails, C-552-819 | 1/1/21-12/31/21
Anhui Sunwell Products Co., Ltd
Atlantic Manufacture Inc
Come Best (Thailand) Co., Ltd
Cuong Dinh Co., Ltd
Delmar International (Vietnam) Ltd
Detchun Vietnam Joint Stock Company
Dicha Sombrilla Co., Ltd
Dinh Nguyen Service Trading Production Co. Ltd
Dinh Thanh Phat Trade One Member Co., Ltd
Easy Link Industrial Co. Ltd,
Geekay Wires Limited
Hiep Dat Dong Nai Corporation
Inmax Industries Sdn., Bhd
Jinhai Hardware Co., Ltd.
Kim Hoang Industrial Nails Production and Trading Service Co. Ltd
KPF Vietnam Co., Ltd
KPF Vina Co., Ltd
Nor-Cal Products Vietnam Co. Ltd
Pudong Prime International Co., Ltd
Shark Industry Co., Ltd
Storeit Services LLP
T.H.I. Group (Shanghai) Limited
The Inno Steel Co., Ltd
Topy Fasteners Vietnam Co., Ltd
Vina Hardwares J.S.C
SOCIALIST REPUBLIC OF VIETNAM: Passenger Vehicle and Light Truck Tires, C-552-829 | 11/10/20-12/31/21
Bridgestone Tire Manufacturing Vietnam, LLC
Kumho Tire (Vietnam) Co., Ltd
Kumho Tire Co., Inc
Sailun (Vietnam) Co., Ltd
THE PEOPLE'S REPUBLIC OF CHINA: Certain Walk-Behind Lawn Mowers and Parts Thereof, C-570-130 | 10/30/20-12/31/21
Ningbo Daye Garden Machinery Co., Ltd
Ningbo Lingyue Intelligent Equipment Co. Ltd
Zhejiang Amerisun Technology Co., Ltd
Zhejiang Dobest Power Tools Co., Ltd
THE PEOPLE'S REPUBLIC OF CHINA: Certain Collated Steel Staples, C-570-113 | 1/1/21-12/31/21
A-Jax International Co., Ltd
Anping Haotie Metal Technology Co
Changzhou Kya Trading Co., Ltd
China Dinghao Co., Ltd
China Wind International Ltd
Dezhou Hualude Hardware Products Co., Ltd
Dt China (Shanghai) Ltd., Ningbo Branch
Ejen Brothers Limited
eTeklon Co., Ltd
Fastnail Products Limited
Foshan Chan Seng Import and Export Co., Ltd
Guangdong Meite Mechanical Co., Ltd
H&B Promotional Limited
Hangzhou Great Import & Export Co., Ltd
Hangzhou Light Industrial Products, Arts & Crafts, Textiles Import & Export Co., Ltd
Hangzhou Strong Lion New Material Co., Ltd
Hebei Cangzhou New Century Foreign Trade Co., Ltd
Hebei Jinshi Industrial Metal Co., Ltd
Hebei Machinery Import and Export Co., Ltd
Hebei Minmetals Co., Ltd
Hengtuo Metal Products Co., Ltd
Hk Quanyi Coil Spring Metals Product Limited
Huanghua Baizhou Trading Co., Ltd
Jiangmen Rui Xing Yuan Import and Export Co., Ltd
Jiaxing Brothers Hardware Co., Ltd
Jinhua Qual Max Trading Co., Ltd
Kinglong Manufacturing Co., Ltd
Milan Pacific International Limited
Mingguang Ruifeng Hardware Products Co., Ltd
Ningbo (Yinzhou) Yongjia Electrical Tools Co., Ltd
Ningbo Alldo Stationery Co., Ltd
Ningbo Guangbo Import & Export Co., Ltd
Ningbo Huayi Import & Export Co., Ltd
Ningbo Mascube Imp. & Exp. Corp
Ningbo Mate Import & Export Co., Ltd
Ningbo Pacrim Manufacturing Co., Ltd
Ningbo S-Chande Import & Export Co., Ltd
Ningbo Sunlit International Co., Ltd
Ningbo Yuanyu Imp. & Exp. Co., Ltd
Ninghai Huihui Stationery Co., Ltd
Oli-Fast Fasteners (Tianjin)
Qingdao Top Metal Industrial Co., Ltd
Qingdao Top Steel Industrial Co., Ltd
Rayson Electrical Mfg., Ltd
Rebon Building Material Co., Limited
Rise Time Industrial Ltd
Shanghai Genmes Office Products Co., Ltd
Shanghai Jade Shuttle Hardware
Shanghai Lansi Trading Co., Ltd
Shanghai Yinwo Technologies Development Co., Ltd
Shaoxing Best Nail Industrial Co., Ltd
Shaoxing Bohui Import Export Co., Ltd
Shaoxing Feida Nail Industry Co., Ltd
Shaoxing Huasheng Stationery Manufacturing Co., Ltd
Shaoxing Jingke Hardware Co., Ltd
Shaoxing Mingxing Nail Co., Ltd
Shaoxing Shunxing Metal Producting Co., Ltd
Shaoxing Xinyi Hardware & Tools Co., Ltd
Shaoxing Yiyou Stationery Co., Ltd
Shenzhen Jinsunway Mould Co., Ltd
Shijiazhuang Shuangming Trade Co., Ltd
Shouguang Hongsheng Import and Export Co., Ltd
Shun Far Enterprise Co., Ltd
Suntec Industries Co., Ltd
Suqian Real Faith International Trade Co., Ltd
Taizhou Dajiang Ind. Co., Ltd
Team One (Shanghai) Co., Ltd
Tianjin Bluekin Industries Co., Ltd
Tianjin D&C Technology Development
Tianjin Huixinshangmao Co., Ltd
Tianjin Hweschun Fasteners Manufacturing Co., Ltd
Tianjin Jin Xin Sheng Long Metal Products Co., Ltd
Tianjin Jinyifeng Hardware Co., Ltd
Tsi Manufacturing LLC
Tung Yung International Limited
Unicom (Tianjin) Fasteners Co., Ltd
Wire Products Manufacturing Co., Ltd
Yangjiang Meijia Economic & Trade Co., Ltd
Youngwoo (Cangzhou) Fasteners Co., Ltd
Yuchen Imp. and Exp. Co, Ltd
Yueqing Yuena Electric Science and Technology Co., Ltd
Zhejiang Best Nail Industrial Co., Ltd
Zhejiang Fairtrade E-Commerce Co., Ltd
Zhejiang KYT Technology Co., Ltd
TURKEY: Common Alloy Aluminum Sheet, C-489-840 | 8/14/20-12/31/21
ASAS Aluminyum Sanayi ve Ticaret A.S.¹³
TURKEY: Steel Concrete Reinforcing Bar, C-489-830 | 1/1/21-12/31/21
Habas Sinai ve Tibbi Gazlar Istihsal Endustrisi A.S

⁵ In the notice of initiation for June anniversary orders, published in the Federal Register on August 9, 2022 (87 FR 48459) (June Initiation Notice), Commerce inadvertently misspelled the name of this order as “Pressed Concrete Steel Wire Strand.” Commerce hereby corrects the name of the order.

⁶ Stainless steel sheet and strip in coils produced and exported by Inchon Iron & Steel Co., Ltd., were excluded from the order effective June 8, 1999. See Notice of Final Determination of Sales at Less Than Fair Value: Stainless Steel Sheet and Strip in Coils from the Republic of Korea, 64 FR 30664, 30688 (June 8, 1999). On June 28, 2002, Commerce determined that INI Steel Company is the successor-in-interest to Inchon Iron & Steel Co., Ltd. See Stainless Steel Sheet and Strip in Coils from the Republic of Korea: Notice of Final Results of Changed Circumstances Antidumping Duty Administrative Review, 67 FR 43583 (June 28, 2002). On July 3, 2006, Commerce determined that Hyundai Steel Company is the successor-in-interest to INI Steel Company, formerly Inchon Iron and Steel Co., Ltd. See Notice of Final Results of Changed Circumstances Antidumping Duty Administrative Review: Stainless Steel Sheet and Strip in Coils from the Republic of Korea, 71 FR 37906 (July 3, 2006). Accordingly, we are initiating this administrative review for Inchon Iron & Steel Co., Ltd. and Hyundai Steel Co. where they are either the producer or exporter of subject merchandise but not both.

⁷ Id.

⁸ On December 1, 2011, Commerce revoked the order with respect to Pohang Iron & Steel Co., Ltd. (POSCO). See Notice of Implementation of Determination Under Section 129 of the Uruguay Round Agreements Act and Revocation of the Antidumping Duty Order on Stainless Steel Plate in Coils from the Republic of Korea; and Partial Revocation of the Antidumping Duty Order on Stainless Steel Sheet and Strip in Coils from the Republic of Korea, 76 FR 74771, 74772 (December 1, 2011). Accordingly, we are initiating this administrative review for POSCO where it is the exporter or producer of subject merchandise but not both.

⁹ Stainless steel sheet and strip in coils produced and exported by Tung Mung Development Co., Ltd. were excluded from the antidumping duty order on stainless steel sheet and strip in coils from Taiwan, effective October 16, 2002. See Notice of Amended Final Determination in Accordance with Court Decision of the Antidumping Duty Investigation of Stainless Steel Sheet and Strip in Coils from Taiwan, 69 FR 67311, 67312 (November 17, 2004). Accordingly, we are initiating this administrative review for Tung Mung Development Co., Ltd. where it was the producer or exporter of subject merchandise but not both.

¹⁰ In the June Initiation Notice, Commerce listed Changshan Peer Bearing Co., Ltd. as a company for which we are initiating an administrative review. However, because this company withdrew its request for review before the date of the June Initiation Notice, Commerce hereby corrects the inadvertent inclusion of Changshan Peer Bearing Co., Ltd. in that notice.

¹¹ In the notice of initiation for April anniversary orders, published in the Federal Register on June 9, 2022 (87 FR 35165) (April Initiation Notice), Commerce spelled the name of this company as “ASA Aluminyum Sanayi ve Ticaret A.S.” as a result of the name having been misspelled by the petitioner in its review request. After consulting with the petitioner, Commerce hereby corrects the name of this company. See Memorandum, “Clarification of Certain Companies Requested for Review,” dated August 29, 2022. In addition, the April Initiation Notice incorrectly indicated the following companies are a single entity: Assan Aluminyum Sanayi ve Ticaret A.S., Kibar Americas, Inc., and Kibar Dis Ticaret A.S. Commerce has not found these three companies to be a single entity. Finally, Kibar Americas, Inc. is not a foreign producer or exporter and thus the April Initiation Notice incorrectly indicated that this company is subject to review.

¹² This company is part of a collapsed entity with Kaptan Metal Dis Ticaret Ve Nakliayt A.S. Commerce is initiating a review of the collapsed entity

¹³ In the April Initiation Notice, Commerce inadvertently omitted this company from the list of companies for which this administrative review was initiated. Commerce hereby adds this company to the list of initiated companies. In addition, Kibar Americas, Inc. is not a foreign producer or exporter and thus the April Initiation Notice incorrectly indicated that this company is subject to review.

Suspension Agreements

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹⁴ available at www.govinfo.gov/content/pkg/FR-2013-07-17/pdf/2013-17045.pdf, prior to submitting factual information in this segment. Note that Commerce has temporarily modified certain of its requirements for serving documents containing business proprietary information, until further notice.¹⁵

¹⁴ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹⁵ See Temporary Rule Modifying AD/CVD Service Requirements Due to COVID-19, 85 FR 41363 (July 10, 2020).

Any party submitting factual information in an AD or CVD proceeding must certify to the accuracy and completeness of that information using the formats provided at the end of the Final Rule.¹⁶ Commerce intends to reject factual submissions in any proceeding segments if the submitting party does not comply with applicable certification requirements.

¹⁶ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁷ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹⁷ See 19 CFR 351.302.

These initiations and this notice are in accordance with section 751(a) of the Act (19 U.S.C. 1675(a)) and 19 CFR 351.221(c)(1)(i).

Dated: August 31, 2022.
James Maeder,
Deputy Assistant Secretary for Antidumping and Countervailing Duty Operations.

[FR Doc. 2022-19195 Filed 9-2-22; 8:45 am]

BILLING CODE 3510-DS-P